OFFICE OF PERSONNEL MANAGEMENT

Excepted Service

AGENCY: U.S. Office of Personnel Management (OPM).

ACTION: Notice.

SUMMARY: This notice identifies Schedule A, B, and C appointing authorities applicable to a single agency that were established or revoked from August 1, 2012, to August 31, 2012.

FOR FURTHER INFORMATION CONTACT: Senior Executive Resources Services, Executive Resources and Employee Development, Employee Services, 202-606-2246.

SUPPLEMENTARY INFORMATION: In accordance with 5 CFR 213.103, Schedule A, B and C appointing authorities available for use by all agencies are codified in the Code of Federal Regulations (CFR). Schedule A, B and C appointing authorities applicable to a single agency are not codified in the CFR, but the Office of Personnel Management (OPM) publishes a notice of agency-specific authorities established or revoked each month in the Federal Register at www.gpo.gov/fdsys/. OPM also publishes annually a consolidated listing of all Schedule A, B and C appointing authorities current as of June 30 as a notice in the Federal Register.

Schedule A

Schedule A authorities to report during August 2012.

06. Department of Defense, (Sch. A, 213.3106)

(b) Entire Department (including the Office of the Secretary of Defense and the Departments of the Army, Navy, and Air Force)—

(10) Temporary or time-limited positions in direct support of U.S. Government efforts to rebuild and create an independent, free and secure Iraq and Afghanistan. This authority may only be used when no other appropriate appointing authority applies. In general, the duties of these positions must be performed in Iraq or Afghanistan. No new appointments may be made under this authority after October 1, 2014.

Schedule B

No schedule B authorities to report during August 2012.

Schedule C

The following Schedule C appointing authorities were approved during August 2012.

Agency name | Organization name | Position title | Authorization No. | Effective date
Department of Agriculture | Department of Agriculture | Special Assistant | DA120098 | 8/10/2012
| Office of the Under Secretary for Rural Development | Georgia State Director | DA120064 | 8/13/2012
Department of Commerce | Office of Policy and Strategic Planning | Special Assistant | DC120148 | 8/7/2012
| Office of the Chief Economist | Special Assistant | DC120149 | 8/7/2012
| Office of Under Secretary | Senior Advisor for Oceans and Atmosphere, and the Principal Deputy Under Secretary | DC120127 | 8/13/2012
| Office of the Under Secretary | Chief Communications Officer | DC120150 | 8/13/2012
| Office of the Chief of Staff | Confidential Assistant | DC120152 | 8/13/2012
Commission on Civil Rights | Commissioners | Special Assistant | CC120004 | 8/27/2012
Department of Defense | Office of the Under Secretary of Defense | Staff Assistant | DD120100 | 8/1/2012
| Office of Assistant Secretary of Defense (Legislative Affairs) | Special Assistant | DD120105 | 8/13/2012
Department of the Army | Office Assistant Secretary Army (Installations and Environment) | Special Advisor (Installations and Environments) | DW120035 | 8/13/2012
Department of the Navy | Office of the Under Secretary of the Navy | Special Assistant | DN120047 | 8/13/2012
Department of Education | Office of the Under Secretary | Deputy Director of the White House Initiative on American Indian and Alaska Native Education | DB120072 | 8/1/2012
| Office of Planning, Evaluation and Policy Development | Senior Advisor for STEM | DB120084 | 8/1/2012
| Office of Vocational and Adult Education | Special Assistant | DB120074 | 8/10/2012
| Office of the Under Secretary | Confidential Assistant | DB120071 | 8/16/2012
| Office of Planning, Evaluation and Policy Development | Special Assistant | DB120086 | 8/20/2012
Department of Energy | Office of Economic Impact and Diversity | Special Advisor | DE120116 | 8/13/2012
| Office of Assistant Secretary for Policy and International Affairs | Special Advisor | DE120125 | 8/13/2012
| Office of Public Affairs | Speechwriter | DE120130 | 8/13/2012
Environmental Protection Agency | Office of the Associate Administrator for External Affairs and Environmental Education | Deputy Associate Administrator for External Affairs and Environmental Education | EP120042 | 8/7/2012
General Services Administration | Office of the Administrator | Deputy Chief of Staff | GS120024 | 8/14/2012
Department of Health and Human Services | Administration for Community Living | Special Assistant | DH120130 | 8/10/2012
Department of Homeland Security | Office of the Assistant Secretary for Public Affairs | Special Projects Coordinator | DM120153 | 8/1/2012
| Office of the Assistant Secretary for Public Affairs | New Media Specialist | DM120154 | 8/1/2012
| Office of the Assistant Secretary for Public Affairs | Director of Communications and Advisor | DM120156 | 8/1/2012
| Office of the Chief of Staff | Special Assistant | DM120158 | 8/1/2012
| Office of the Executive Secretary for Operations and Administration | Secretary Briefing Book Coordinator | DM120162 | 8/14/2012
Department of Housing and Urban Development | Office of Public Affairs | Assistant Press Secretary | DU120043 | 8/1/2012
Department of the Interior | Bureau of Land Management | Advisor | DI120061 | 8/16/2012
Department of Justice | Office of Legal Policy | Researcher | DJ120089 | 8/20/2012
Office of National Drug Control Policy | Office of the Director | Senior Policy Analyst | QQ120005 | 8/10/2012
Office of Personnel Management | Office of the Director | Special Assistant | PM120019 | 8/22/2012
Presidents Commission on White House Fellowships | Presidents Commission on White House Fellowships | Special Assistant | WH120003 | 8/23/2012
Small Business Administration | Office of the Administrator | Special Advisor | SB120033 | 8/9/2012
| Office of the Administrator | Policy Advisor | SB120032 | 8/10/2012
| Office of Capital Access | Deputy Associate Administrator for Capital Access | SB120034 | 8/16/2012
| Office of International Trade | Senior Advisor for International Trade | SB120035 | 8/20/2012
Department of State | Bureau of Legislative Affairs | Legislative Management Officer | DS120103 | 8/3/2012
| Foreign Policy Planning Staff | Special Assistant | DS120111 | 8/23/2012
Department of Transportation | Administrator | Director, Office of Congressional and Public Affairs | DT120079 | 8/6/2012
United States International Trade Commission | Office of the Chairman | Staff Assistant (Legal) | TC120007 | 8/14/2012

The following Schedule C appointing authorities were revoked during August 2012.

Agency | Organization | Position title | Authorization No. | Vacate date
Department of Commerce | Economic Development Administration | Special Advisor | DC110090 | 8/10/2012
| Office of the Deputy Secretary | Special Assistant | DC120003 | 8/25/2012
Department of Education | Office Of Vocational And Adult Education | Confidential Assistant | DB110004 | 8/11/2012
| Office of Communications and Outreach | Confidential Assistant | DB110044 | 8/17/2012
| Office of Planning, Evaluation and Policy Development | Confidential Assistant | DB110050 | 8/25/2012
| Office of Vocational and Adult Education | Deputy Assistant Secretary For Policy and Strategic Initiatives | DB110091 | 8/25/2012
| Office of Postsecondary Education | Confidential Assistant | DB120026 | 8/25/2012
Department of Energy | Office of Management | Deputy Scheduler | DE110134 | 8/3/2012
Department of Homeland Security | Office of the Chief of Staff | Confidential Assistant to the Chief of Staff | DM110138 | 8/11/2012
| Office of the Assistant Secretary for Public Affairs | Press Secretary | DM110237 | 8/11/2012
Department of Justice | Office of Legal Policy | Research Assistant | DJ100174 | 8/3/2012
| Antitrust Division | Senior Counsel | DJ120028 | 8/11/2012
Department of the Navy | Department of the Navy | Special Assistant | DN090075 | 8/25/2012
Office of the Secretary of Defense | Office of the Assistant Secretary of Defense (Asian and Pacific Security Affairs) | Special Assistant to the Deputy Assistant Secretary of Defense (East Asia) | DD090251 | 8/10/2012
| Office of the Assistant Secretary of Defense (International Security Affairs) | Special Assistant to the Deputy Assistant Secretary of Defense (Russia, Ukraine and Eurasia) | DD090247 | 8/21/2012
| Office of the Assistant Secretary of Defense (Asian and Pacific Security Affairs) | Special Assistant to the Deputy Assistant Secretary of Defense (Central Asia) | DD090233 | 8/25/2012
Small Business Administration | Office of Field Operations | Regional Administrator, Region VIII, Denver Colorado | SB090060 | 8/10/2012
| Office of the Administrator | Policy Advisor to the Administrator | SB120003 | 8/11/2012
| Office of Capital Access | Senior Advisor to the Associate Administrator for Capital Access | SB100044 | 8/15/2012

Authority: 5 U.S.C. 3301 and 3302; E.O. 10577, 3 CFR 1954-1958 Comp., p. 218.

U.S. Office of Personnel Management.
John Berry,
Director.

[FR Doc. 2012-25418 Filed 10-15-12; 8:45 am]

BILLING CODE 6325-39-P